DEPARTMENT OF ENERGY

Federal Energy Regulatory Commission

[Project No. 14635-001]

Village of Gouverneur, New York; Notice of Settlement Agreement

Take notice that the following settlement agreement has been filed with the Commission and is available for public inspection.

a. Type of Application: Settlement Agreement.

b. Project No.: 14635-001.

c. Date Filed: January 13, 2021.

d. Applicant: Village of Gouverneur, New York (Village of Gouverneur).

e. Name of Project: Gouverneur Hydroelectric Project (Project).

f. Location: On the Oswegatchie River, in the Village of Gouverneur, St. Lawrence County, New York. The project does not occupy any federal land.

g. Filed Pursuant to: Rule 602 of the Commission's Rules of Practice and Procedure, 18 CFR 385.602.

h. Applicant Contact: Ronald P. McDougall, Mayor, Village of Gouverneur, 33 Clinton Street, Gouverneur, NY 13642; (315) 287-1720; ronaldpmcdougall@gmail.com.

i. FERC Contact: Jody Callihan, (202) 502-8278 or jody.callihan@ferc.gov.

j. Deadline for filing comments: Comments on the Settlement Agreement are due on Tuesday, February 16, 2021. Reply comments are due on Friday, February 26, 2021.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Village of Gouverneur filed an Offer of Settlement (Settlement Agreement) on behalf of itself, the New York State Department of Environmental Conservation, and the U.S. Fish and Wildlife Service. The Settlement Agreement includes protection, mitigation, and enhancement measures addressing project operation, minimum flows, downstream fish passage and protection, recreation enhancements, and by reference, management plans for invasive species (Appendix A) and northern long-eared bat and bald eagles (Appendix B), as well as an impoundment drawdown and cofferdam plan (Appendix C). Village of Gouverneur requests that the measures in the Settlement Agreement be incorporated as license conditions, without modification, in any original license issued for the project. The signatories to the Settlement Agreement also request a 40-year license term for the project.

l. A copy of the Settlement Agreement is available for review on the Commission's website at http://www.ferc.gov using the “eLibrary” link. Enter the docket number, excluding the last three digits, in the docket number field to access the document. For assistance, contact FERC Online Support.

Register online at http://www.ferc.gov/docs-filing/esubscription.asp to be notified via email of new filings and issuances related to this or other pending projects. For assistance, contact FERC Online Support.

Dated: January 27, 2021.
Kimberly D. Bose,
Secretary.

[FR Doc. 2021-02153 Filed 2-1-21; 8:45 am]

BILLING CODE 6717-01-P